DEPARTMENT OF THE INTERIOR

Fish and Wildlife Service

Notice of Availability of a Draft Revised Recovery Plan for the Southern Sea Otter (Enhydra lutris nereis) for Review and Comment

AGENCY: Fish and Wildlife Service, Interior.

ACTION: Notice of document availability.

SUMMARY: The U.S. Fish and Wildlife Service (Service) announces the availability of a draft revision of the southern sea otter recovery plan for public review. This species occurs along the central coast of California, from Half Moon Bay south to Gaviota. The Service solicits review and comment from the public on this draft revised plan.

DATE: Comments on the draft revised recovery plan must be received on or before April 10, 2000 to receive consideration by the Service.

ADDRESSES: Persons wishing to review the draft revised recovery plan may obtain a copy by written request addressed to the Field Supervisor, Ventura Field Office, U.S. Fish and Wildlife Service, 2493 Portola Road, Suite B, Ventura, California 93003. Written comments and materials regarding the plan should be addressed to Mr. Carl Benz at the above Ventura, California address. Comments and materials received are available upon request for public inspection, by appointment, during normal business hours at the above Ventura address.

FOR FURTHER INFORMATION CONTACT: Mr. Carl Benz at the above Ventura address (telephone 805-644-1766).

SUPPLEMENTARY INFORMATION:

Background

The southern (California) sea otter (Enhydra lutris nereis) was listed as threatened in 1977 under the Endangered Species Act of 1973, as amended. It is also recognized as a depleted population pursuant to the Marine Mammal Protection Act. Reduced range and population size, vulnerability to oil spills, and the oil spill risk from coastal tanker traffic were the primary reasons for the threatened status. The southern sea otter population contains about 2,000 individuals and ranges between Half Moon Bay south to Gaviota, California. Approximately 20 otters, including pups, are at San Nicolas Island as a result of translocation efforts to establish an experimental population. After review of new biological information, the Service, with assistance of the Southern Sea Otter Recovery Team, drafted for public review and comment a revised recovery plan in 1991. A second revision was drafted for public review in 1996. After review of public comments on those drafts, and review of new technical information regarding oil spill risk to southern sea otters, the Service, with assistance of the Southern Sea Otter Recovery Team and technical consultants, has drafted for public review and comment a new draft revised recovery plan.

Public Comments Solicited

The Service solicits written comments on the recovery plan described. All comments received by the date specified above will be considered prior to approval of the plan.

Authority

The authority for this action is section 4(f) of the Endangered Species Act, 16 U.S.C. 1533(f).

Dated: February 2, 2000.
Elizabeth H. Stevens,
Acting Manager, California/Nevada Operations Office, Region 1, U.S. Fish and Wildlife Service.

[FR Doc. 00-2764 Filed 2-7-00; 8:45 am]

BILLING CODE 4310-55-P